DEPARTMENT OF THE TREASURY

Office of Thrift Supervision

12 CFR Parts 516 and 575

[OTS No. 2008-0023]

Technical Amendments

AGENCY: Office of Thrift Supervision, Treasury.

ACTION: Final rule.

SUMMARY: The Office of Thrift Supervision (OTS) is amending its regulations to incorporate technical and conforming amendments. They include clarifications and corrections of typographical errors.

DATES: Effective Date: December 18, 2008.

FOR FURTHER INFORMATION CONTACT: Sandra E. Evans, Legal Information Assistant (Regulations), (202) 906-6076, or Marvin Shaw, Senior Attorney, (202) 906-6639, Regulations and Legislation Division, Chief Counsel's Office, Office of Thrift Supervision, 1700 G Street, NW., Washington, DC 20552.

SUPPLEMENTARY INFORMATION: OTS is amending its regulations to incorporate technical and conforming amendments. OTS is making the following miscellaneous changes:

Section 516.40—Application Processing Procedures. The final rule revises the table in 12 CFR 516.40 to add contact information for the agency's Central region.

Sections 575.9 and 575.14—Optional Charter Provisions in Mutual Holding Company Structures. OTS permits certain MHC subsidiaries to adopt an optional charter provision that would prohibit any person from acquiring, or offering to acquire beneficial ownership of more than ten percent of the MHC subsidiary's minority stock (stock held by persons other than the subsidiary's MHC).¹ This final rule modifies the instruction contained in sections 12 CFR 575.9(c) and 575.14(c)(3) to read: “[insert date within five years of a minority stock issuance] * * *.” Today's change corrects the July final rule which inadvertently stated “[insert date of minority stock issuance].”

¹ See 73 FR 39216 (July 9, 2008).

Administrative Procedure Act; Riegle Community Development and Regulatory Improvement Act of 1994

OTS finds that there is good cause to dispense with prior notice and comment on this final rule and with the 30-day delay of effective date mandated by the Administrative Procedure Act.² OTS believes that these procedures are unnecessary and contrary to public interest because the rule merely makes technical changes to existing provisions. Because the amendments in the rule are not substantive, these changes will not affect savings associations.

² 5 U.S.C. 553.

Section 302 of the Riegle Community Development and Regulatory Improvement Act of 1994 provides that regulations that impose additional reporting, disclosure, or other new requirements may not take effect before the first day of the quarter following publication.³ This section does not apply because this final rule imposes no additional requirements and makes only technical changes to existing regulations.

³ Pub. L. 103-325, 12 U.S.C. 4802.

Regulatory Flexibility Act

Pursuant to section 605(b) of the Regulatory Flexibility Act,⁴ the OTS Director certifies that this technical corrections regulation will not have a significant economic impact on a substantial number of small entities.

⁴ Pub. L. 96-354, 5 U.S.C. 601.

Executive Order 12866

OTS has determined that this rule is not a “significant regulatory action” for purposes of Executive Order 12866.

Unfunded Mandates Reform Act of 1995

OTS has determined that the requirements of this final rule will not result in expenditures by State, local, and tribal governments, or by the private sector, of $100 million or more in any one year. Accordingly, a budgetary impact statement is not required under section 202 of the Unfunded Mandates Reform Act of 1995.

List of Subjects

12 CFR Part 516

Administrative practice and procedure, Reporting and recordkeeping requirements, Savings associations.

12 CFR Part 575

Administrative practice and procedure, Capital, Holding companies, Reporting and recordkeeping requirements, Savings Associations, Securities.

Accordingly, the Office of Thrift Supervision amends title 12, chapter V of the Code of Federal Regulations, as set forth below.

PART 516—APPLICATION PROCESSING PROCEDURES

1. The authority citation for part 516 continues to read as follows:

Authority: 5 U.S.C. 552, 559; 12 U.S.C. 1462a, 1463, 1464, 2901 et seq.

2. Revise the table in § 516.40(a)(2) to read as follows:

§ 516.40 Where do I file my application?

(a) * * *

(2) * * *

Region | Office address | States served
Northeast | Office of Thrift Supervision, Harborside Financial Center, Plaza Five, Suite 1600, Jersey City, New Jersey 07311 | Connecticut, Delaware, Maine, Massachusetts, New Hampshire, New Jersey, New York, Pennsylvania, Rhode Island, Vermont, West Virginia.
Southeast | Office of Thrift Supervision, 1475 Peachtree Street, NW., Atlanta, Georgia 30309 (Mail Stop: P.O. Box 105217, Atlanta, Georgia 30348-5217) | Alabama, District of Columbia, Florida, Georgia, Kentucky, Maryland, North Carolina, Puerto Rico, South Carolina, Virginia, the Virgin Islands.
Central | Office of Thrift Supervision, 1 South Wacker Drive, Suite 2000, Chicago, Illinois 60606 | Illinois, Indiana, Ohio, Michigan, Wisconsin.
Midwest | Office of Thrift Supervision, 225 E. John Carpenter Freeway, Suite 500, Irving, Texas 75062-2326 (Mail to: P.O. Box 619027, Dallas/Ft. Worth, Texas 75261-9027 | Arkansas, Iowa, Kansas, Louisiana, Mississippi, Missouri Nebraska, Oklahoma, Tennessee, Texas.
West | Office of Thrift Supervision, Pacific Plaza, 2001 Junipero Serra Boulevard, Suite 650, Daly City, California | Alaska, Arizona, California, Colorado, Guam, Hawaii, Idaho, Montana, Nevada, New Mexico, North Dakota, Northern Mariana Islands, Oregon, South Dakota, Utah, Washington, Wyoming.

* * * * *

PART 575—MUTUAL HOLDING COMPANIES

3. The authority citation for 12 CFR part 575 continues to read as follows:

Authority: 12 U.S.C. 1462, 1462a, 1463, 1464, 1467a, 1828, 2901.

§ 575.9 [Amended]

4. Amend the second paragraph of § 575.9(c) by adding the phrase “within five years” after the word “date” in the bracketed language of the second sentence.

§ 575.14 [Amended]

5. Amend the second paragraph of § 575.14(c)(3) by adding the phrase “within five years” after the word “date” in the bracketed language of the second sentence.

Dated: December 11, 2008.
By the Office of Thrift Supervision.
John M. Reich,
Director.

[FR Doc. E8-30021 Filed 12-17-08; 8:45 am]

BILLING CODE 6720-01-P